FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010977-052.

Title: Hispaniola Discussion Agreement.

Parties: Crowley Liner Services, Inc.; Seaboard Marine Ltd.; Tropical Shipping and Construction Co., Ltd.; and Bernuth Agencies, Inc.

Synopsis: The amendment removes A. P. Moller-Maersk Sealand as a party to the agreement.

Agreement No.: 011510-021.

Title: West Africa Discussion Agreement.

Parties: Atlantic Bulk Carriers, Ltd.; HUAL A/S; P&O Nedlloyd Limited.

Synopsis: The amendment deletes Zim Israel Navigation Company Limited from the membership of the agreement.

Agreement No.: 011632-004.

Title: Turkey/United States Rate Agreement.

Parties: Farrell Lines, Inc. and Turkon Container Transport & Shipping Inc.

Synopsis: The amendment deletes Hapag-Lloyd Container Linie GmbH as a party to the agreement.

Agreement No.: 11737-011.

Title: The MCA Agreement.

Parties: Atlantic Container Line AB; Alianca Navegacao e Logistica Ltda.; Antillean Marine Shipping Corporation; A.P. Moller-Maersk A/S; Bernuth Lines, Ltd.; CMA CGM S.A.; Companhia Libra de Navegacao; Compania Sud Americana de Vapores S.A.; CP Ships (UK) Limited d/b/a ANZDL and d/b/a Contship Containerlines; Crowley Liner Services, Inc.; Dole Ocean Cargo Express, Inc.; Great White Fleet (U.S.) Ltd.; Hamburg-Sud d/b/a Columbus Line and d/b/a Crowley American Transport; Hapag-Lloyd Container Linie; Italia di Navigazione S.p.A.; King Ocean Central America S.A.; King Ocean Service de Colombia S.A.; King Ocean Service de Venezuela S.A.; Lykes Lines Limited, LLC; Montemar Maritima S.A.; Norasia Container Line Limited; P&O Nedlloyd Limited; Safmarine Container Lines N.V.; TMM Lines Limited, LLC; Tropical Shipping & Construction Co., Ltd.; Wallenius Wilhelmsen Lines AS.

Synopsis: The amendment would add China Shipping Container Lines Co., Ltd. to the membership list and change Maersk Sealand's legal name to A.P. Moller-Maersk A/S.

Agreement No.: 011864.

Title: USAC—Norasia Space Charter Agreement.

Parties: Norasia Container Line Limited and United Arab Shipping Co., S.A.G.

Synopsis: Norasia may charter space on UASC vessels in the trade between ports on the U.S. Atlantic Coast and ports on the Mediterranean Sea, the Red Sea, the Arabian Gulf and the Indian Ocean. Expedited Review is requested.

By Order of the Federal Maritime Commission.
Dated: October 10, 2003.
Bryant L. VanBrakle,
Secretary.

[FR Doc. 03-26218 Filed 10-15-03; 8:45 am]

BILLING CODE 6730-01-P